DEPARTMENT OF TRANSPORTATION

National Highway Traffic Safety Administration

[Docket No. NHTSA-2000-7965]

Denial of Petition for Import Eligibility for 1999-2000 Porsche GT3 Passenger Cars

AGENCY: National Highway Traffic Safety Administration, DOT.

ACTION: Denial of petition for import eligibility for 1999-2000 Porsche 911 GT3 passenger cars (GT3).

DISCUSSION: This document sets forth the reasons for the denial of a petition submitted to the National Highway Traffic Safety Administration (NHTSA) under 49 U.S.C. 30141(a)(1)(A). The petition, which was submitted by Wallace Environmental Testing Laboratories, Inc. of Houston, Texas (“WETL”)(Registered Importer 90-005), requested NHTSA to decide that GT3's that were not originally manufactured to comply with all applicable Federal motor vehicle safety standards (FMVSS) are eligible for importation into the United States. In the petition, WETL contended that these vehicles are eligible for importation on the basis that (1) they are substantially similar to vehicles that were originally manufactured for importation into and sale in the United States and that were certified by their manufacturer as complying with the safety standards (the U.S. certified version of the 1999-2000 Porsche 911 passenger car (911)), and (2) they are capable of being readily altered to conform to the standards.

NHTSA published a notice in the Federal Register on October 6, 2000, (65 FR 59889) that contained a thorough description of the petition, and solicited public comments upon it. In a letter dated November 13, 2000, Porsche Cars North America, Inc. (Porsche), the United States representative of the vehicle's foreign manufacturer, commented that GT3's are ineligible for importation because they are not substantially similar to vehicles that were originally manufactured and certified for sale in the United States and are not capable of being readily altered to conform to the standards. Specifically, Porsche observed that the GT3s that are the subject of the petition are equipped with (1) a fuel tank of 90 liters volume compared to 64 liters for the 911 certified for the U.S. market, (2) a 3.6 liter engine for the GT3 compared to the 3.4 liter engine for the 911, (3) a different cooling and lubrication system than the 911, and (4) a different suspension system than the 911.

Porsche also stated that parts of the GT3 have not been subjected to any certification testing for compliance with the FMVSS. Specifically, Porsche observed that the GT3 does not comply with the following FMVSS in the following ways:

FMVSS 102 Transmission shift lever sequence, starter interlock, and transmission braking effect. The importer has not submitted any changes to achieve compliance with this standard.

FMVSS 103 Windshield Defrosting and Defogging System. The engine of the GT3 is very different from that of the 911 models that were manufactured and certified for sale in the United States. The cooling circuits of both engines differ significantly. As a result, the heating system of the GT3 is different from that of the 911. The GT3 has not been tested for compliance with this standard.

FMVSS 105 Hydraulic and electric brake systems and FMVSS 135 Passenger Car Brake Systems. The braking system of the GT3 is significantly different from that of the 911. The braking system of the GT3 has not undergone any testing to establish compliance with this standard.

FMVSS 106 Brake hoses. The GT3 uses brake hoses that differ from those of the 911. The brake hoses of the GT3 have not been tested for compliance with this standard.

FMVSS 201 Occupant protection in interior impact. The GT3 does not comply with this standard when equipped with the original rollbar.

FMVSS 202 Head restraints. The GT3 can be ordered with an optional bucket seat. This seat has not been tested for compliance with this standard. In a vehicle equipped with this optional bucket seat, one seat belt anchorage is different, and this anchorage has not been tested for compliance with FMVSS 210 Seat Belt Assembly Anchorages.

FMVSS 208 Occupant crash protection. The air bag system of the GT3 has different structural elements that the 911 (larger fuel tank, different suspension, less weight). The GT3's air bag system has not been tested for compliance with this standard.

FMVSS 209 Seat belt assemblies. The GT3's seatbelts do not comply with this standard.

FMVSS 214 Side impact protection. The GT3 has a different suspension system than the 911. The GT3 is 40 mm lower than the 911 and this lower suspension has a significant influence on side impact protection. The GT3 has not undergone any compliance testing for this standard. The proposed modifications by the petitioner will not bring the GT3 to the height in which the U.S. certified 911's were tested for compliance with the FMVSS.

FMVSS 301 Fuel System Integrity. The fuel tank of the GT3 is significantly different from that of the 911. The GT3's fuel tank has a larger volume and is in a slightly different location than the 911. The GT3's fuel tank extends further towards the front end of the car and may therefore behave differently than that of a 911 in a crash or rollover. The GT3's fuel tank has not been tested for compliance with this standard. The changes submitted in the importer's petition for the fuel system are not sufficient to secure compliance with this standard.

Porsche also commented that insufficient information had been provided by the petitioner to determine whether the proposed modifications were sufficient to ensure compliance with the following FMVSS: FMVSS 101 Controls and displays, FMVSS 108 Lamps, reflective devices and associated equipment, and FMVSS 114 Theft protection.

NHTSA accorded WETL an opportunity to respond to Porsche's comments. WETL responded on December 15, 2001, with the following comments:

FMVSS 102. The GT3 complies with this standard, as the shift lever pattern of the manual transmission is displayed to the driver at all times.

FMVSS 103. The GT3 engine is different from the engine of the 911, however, the heat exchanger and the blower are identical in material make and part number. The GT3 complies with this standard.

FMVSS 105 and FMVSS 135. The braking systems are not identical, but share many components, with the 2000-2001 Twin Turbo 911 sold in the U.S. The GT3 complies with this standard.

FMVSS 106. All brake hoses will be replaced.

FMVSS 201. The noncomplying optional rollbar would be removed from any GT3 vehicle so equipped.

FMVSS 202 and FMVSS 210. The optional bucket seats would be removed from any GT3 vehicle so equipped.

FMVSS 208. More than one air bag unit is available for the GT3. WETL will verify and substitute the air bag units, as necessary.

FMVSS 209. The seat belt assemblies will be changed.

FMVSS 214 and Part 581. The GT3 will be modified to the exact height of the 911 to meet these requirements. Suspension related parts can readily be changed to the U.S. part number.

FMVSS 301. The fuel tank in the U.S. certified 2002 Porsche GT2 that will be imported by Porsche is identical to the GT3 fuel tank.

Porsche's responded on January 22, 2001, with comments by addressing the following FMVSS:

FMVSS 102. The GT3 does not comply with this standard, it does not have a starter interlock.

FMVSS 103. WETL has not adequately addressed the objections concerning the different engine cooling circuits.

FMVSS 105 and FMVSS 135. The GT3 brake system has not been tested, WETL has not provided test data showing compliance.

FMVSS 208 and FMVSS 301. Contrary to WETL claims, the 2002 GT2 will have the same 64 liter fuel tank used in the 1999/2000 911 Carrera. Porsche has no test data using the larger 90 liter fuel tank, and notes that the “substantially similar” determination for the GT3 is being made against the 1999/2000 911, not the 2002 GT2.

WETL submitted a final responsive comment on April 6, 2001, that addressed the following FMVSS:

FMVSS 102. The shift lever pattern of the manual transmission is displayed to the driver. A starter interlock is required by the regulation for a manual transmission.

FMVSS 103. The GT3 is equipped with a similar defrost system as found on the 2001 U.S. 911 Twin Turbo.

FMVSS 105 and FMVSS 135. The braking systems are not identical, but share many components with the 2000-2001 Twin Turbo 911. The GT3 complies with this standard.

FMVSS 208 and FMVSS 301. Fuel tanks will be replaced with the U.S. version.

NHTSA has reviewed the comments from Porsche and WETL and has concluded that, due to the substantial differences in suspension, brakes, engine, fuel tank, and vehicle weight, WETL's petition does not clearly demonstrate that the GT3's that are the subject of the petition are eligible for importation. The petition must therefore be denied under 49 CFR 593.7(e).

In accordance with 49 U.S.C. § 30141(b)(1), NHTSA will not consider a new import eligibility petition covering this vehicle until at least three months from the date of this notice.

Authority: 49 U.S.C. 30141(a)(1)(A) and (b)(1); 49 CFR 593.7; delegations of authority at 49 CFR 1.50 and 501.8.

Dated: July 27, 2001.
Marilynne Jacobs,
Director, Office of Vehicle Safety, Compliance.

[FR Doc. 01-19186 Filed 7-31-01; 8:45 am]

BILLING CODE 4910-59-P